DEPARTMENT OF COMMERCE

International Trade Administration

[A-570-601]

Tapered Roller Bearings and Parts Thereof, Finished and Unfinished, From the People's Republic of China: Notice of Court Decision Not in Harmony With the Results of Antidumping Duty Administrative Review; Notice of Amended Final Results

AGENCY: Enforcement and Compliance, International Trade Administration, Department of Commerce.

SUMMARY: On December 18, 2024, the U.S. Court of International Trade (CIT) issued its final judgment in Shanghai Tainai Bearing Co., Ltd. and C&U Americas, LLC, v. United States, Court No. 22-00038, sustaining the U.S. Department of Commerce's (Commerce) remand results pertaining to the administrative review of the antidumping duty (AD) order on tapered roller bearings and parts thereof, finished and unfinished (TRBs) from the People's Republic of China (China) covering the period June 1, 2019, through May 31, 2020. Commerce is notifying the public that the CIT's final judgment is not in harmony with Commerce's final results of the administrative review and that Commerce is amending the final results with respect to the dumping margins assigned to Shanghai Tainai Bearing Co., Ltd. (Tainai), Xinchang Newsun Xintianlong Precision Bearing Manufacturing Co., Ltd, (Xintianlong), and Hebei Xintai Bearing Forging Co., Ltd, (Xintai).

DATES: Applicable December 28, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On January 10, 2022, Commerce published its Final Results in the 2019-2020 AD administrative review of TRBs from China.¹ Commerce calculated a weighted-average dumping margin of 538.79 percent for Tainai, Xintai, and Xintianlong.²

¹ See Tapered Roller Bearings and Parts Thereof, Finished and Unfinished, from the People's Republic of China: Final Results and Partial Rescission of Review; 2019-2020, 87 FR 1120 (January 10, 2022) (Final Results), and accompanying Issues and Decision Memorandum.

² Id.

Tainai appealed Commerce's Final Results. On September 14, 2023, the CIT remanded the Final Results to Commerce to (1) consider record evidence regarding the control that Tainai could have exerted over unaffiliated suppliers and (2) why the revenue of section 301 duties is related to profits on the sale of services rather than on the sale of subject merchandise.³

³ See Shanghai Tainai Bearing Co., Ltd. v. United States, 658 F.Supp. 3d 1269 (CIT 2024).

In the Final Redetermination, issued in January 2024, Commerce, under respectful protest, recalculated Tainai's weighted-average dumping margin without adverse facts available in connection with Tainai's unaffiliated suppliers' failure to report factors of production (FOP) information but relying on partial neutral facts available to fill in the missing FOP information.⁴ Commerce also modified its calculation for certain invoices regarding section 301 duties.⁵ On December 18, 2024, the CIT sustained Commerce's Final Redetermination.⁶

⁴ See Final Results of Redetermination Pursuant to Court Remand, Shanghai Tainai Bearing Co., Ltd., et al. v. United States, Court No. 22-00038, Slip Op. 22-74, dated January 11, 2024 (Final Redetermination), at 3-4.

⁵ Id. at 4.

⁶ See Shanghai Tainai Bearing Co., Ltd., et al. v. United States, Slip Op. 24-142 (CIT December 18, 2024).

Timken Notice

In its decision in Timken,⁷ as clarified by Diamond Sawblades,⁸ the U.S. Court of Appeals for the Federal Circuit held that, pursuant to sections 516A(c) and (e) of the Tariff Act of 1930, as amended (the Act), Commerce must publish a notice of court decision that is not “in harmony” with a Commerce determination and suspend liquidation of entries pending a “conclusive” court decision. The CIT's December 18, 2024, judgment constitutes a final decision of the CIT that is not in harmony with Commerce's Final Results. Thus, this notice is published in fulfillment of the publication requirements of Timken.

⁷ See Timken Co. v. United States, 893 F.2d 337 (Fed. Cir. 1990) (Timken).

⁸ See Diamond Sawblades Mfrs. Coal. v. United States, 626 F.3d 1374 (Fed. Cir. 2010) (Diamond Sawblades).

Amended Final Results

Because there is now a final court judgment, Commerce is amending its Final Results with respect to Tainai and the margin for non-selected companies as follows:

Producer/exporter | Weighted- average dumping margin (percent)
Shanghai Tainai Bearing Co., Ltd | 76.58
Hebei Xintai Bearing Forging Co., Ltd | 76.58
Xinchang Newsun Xintianlong Precision Bearing Manufacturing Co., Ltd | 76.58

Cash Deposit Requirements

Because Tainai has a superseding cash deposit rate, i.e., there have been final results published in a subsequent administrative review, we will not issue revised cash deposit instructions to U.S. Customs and Border Protection (CBP). This notice will not affect the current cash deposit rate.

With respect to all the non-selected companies that do not have a superseding cash deposit rate, Commerce will issue revised cash deposit instructions to CBP.

Liquidation of Suspended Entries

At this time, Commerce remains enjoined by CIT order from liquidating entries that: were exported by Tainai, Xintai, or Xintianlong, and were entered, or withdrawn from warehouse, for consumption during the period June 1, 2019, through May 31, 2020. These entries will remain enjoined pursuant to the terms of the injunction during the pendency of any appeals process.

In the event the CIT's ruling is not appealed, or, if appealed, upheld by a final and conclusive court decision, Commerce intends to instruct CBP to assess antidumping duties on unliquidated entries of subject merchandise exported by Tainai, Xintai, or Xintianlong, in accordance with 19 CFR 351.212(b), at the rates identified above.

Notification to Interested Parties

This notice is issued and published in accordance with sections 516A(c) and (e), and 777(i)(1) of the Act.

Dated: December 23, 2024.
Abdelali Elouaradia,
Deputy Assistant Secretary for Enforcement and Compliance.

[FR Doc. 2024-31412 Filed 12-30-24; 8:45 am]

BILLING CODE 3510-DS-P